Title 3—

The President

Proclamation 7532 of March 14, 2002

National Poison Prevention Week, 2002

By the President of the United States of America

A Proclamation

In 1961, the Congress established the annual observance of National Poison Prevention Week. Forty-one years later, this event continues to educate Americans about the dangers of childhood poisonings and to promote measures that help prevent such poisonings. These measures and other poison awareness efforts have helped reduce deaths from childhood poisonings by more than 90 percent since 1962.

According to the American Association of Poison Control Centers, more than 1 million children each year are exposed to potentially poisonous medicines and household chemicals. In an effort to put an end to tragic accidents, the United States Consumer Product Safety Commission requires child-resistant packaging for many medicines and household chemicals. But this special packaging is “child-resistant,” not “child-proof.” For this reason, it is essential to keep potential poisons locked up and away from children.

Members of the Poison Prevention Week Council, representing 36 national organizations, work every year to organize events during this special week to raise awareness of unintentional poisonings, as well as to illustrate the steps that can be taken to prevent them. Coalition members believe every poisoning is preventable. Group members encourage Americans to use and properly reclose child-resistant packaging, keep poisonous substances secured and out of the reach of children, and keep the poison center telephone number, 1-800-222-1222, nearby in case of an emergency. This new nationwide number connects callers to medical experts that provide immediate treatment advice for poison emergencies. These centers are open 24 hours a day, 7 days a week.

To encourage Americans to learn more about the dangers of unintentional poisonings and to take more preventive measures, the Congress, by joint resolution approved September 26, 1961, as amended (75 Stat. 681), has authorized and requested the President to issue a proclamation designating the third week of March each year as “National Poison Prevention Week.”

NOW, THEREFORE, I, GEORGE W. BUSH, President of the United States of America, do hereby proclaim March 17 through 23, 2002, as National Poison Prevention Week. I call upon all Americans to observe this week by participating in appropriate ceremonies and activities and by learning how to prevent poisonings among children.

IN WITNESS WHEREOF, I have hereunto set my hand this fourteenth day of March, in the year of our Lord two thousand two, and of the Independence of the United States of America the two hundred and twenty-sixth.

B

[FR Doc. 02-6718

Filed 3-18-02; 8:45 am]

Billing code 3195-01-P